DEPARTMENT OF COMMERCE

National Oceanic and Atmospheric Administration

[RTID 0648-XE496]

Endangered and Threatened Species; Initiation of 5-Year Review of the Brazilian Guitarfish (Rhinobatos horkelii)

AGENCY: National Marine Fisheries Service (NMFS), National Oceanic and Atmospheric Administration (NOAA), Commerce.

ACTION: Notice; request for information.

SUMMARY: We, NMFS, announce the initiation of a 5-year review of the endangered Brazilian guitarfish (Rhinobatos horkelii). The Endangered Species Act (ESA) requires us to conduct a review of listed species at least once every 5 years to determine whether a species should be removed from the list (i.e., delisted), reclassified from an endangered species to a threatened species (i.e., downlisted), or reclassified from a threatened species to an endangered species (i.e., uplisted). The determination must be based on the best scientific and commercial data available at the time of the review. Therefore, we request relevant information (e.g., biology, threats, and conservation efforts) that has become available since our previous review of the species.

DATES: To allow us adequate time to conduct the 5-year review, we must receive your information no later than January 27, 2025. While we accept new information about any listed species at any time, information received after the date stated above may not be considered for the purposes of this review.

ADDRESSES: Submit your information electronically via the Federal eRulemaking Portal. Go to https://www.regulations.gov and enter NOAA-NMFS-2024-0137 in the Search box. Click on the “Comment” icon, complete the required fields, and enter or attach your comments.

Instructions: We may not consider comments or other information if sent by any other method, to any other address or individual, or received after the date stated above. All comments and information received are a part of the public record, and we will post the comments for public viewing on https://www.regulations.gov. All personal identifying information (e.g., name, address, etc.) submitted voluntarily by the sender will be publicly accessible. Do not submit confidential business information, or otherwise sensitive or protected information. We will accept anonymous comments (enter “N/A” in the required fields if you wish to remain anonymous).

FOR FURTHER INFORMATION CONTACT: Malcolm Mohead, NMFS Office of Protected Resources, (301) 427-8427, Malcolm.Mohead@noaa.gov.

SUPPLEMENTARY INFORMATION: This notice announces our initiation of the Brazilian guitarfish (Rhinobatos horkelii) 5-year review. Section 4(c)(2) of the ESA requires us to conduct a review of listed species at least once every 5 years to determine whether species should be removed from the list, changed in status from an endangered species to a threatened species, or changed in status from a threatened species to an endangered species (16 U.S.C. 1533(c)(2)). Section 4(a)(1) of the ESA requires us to determine whether any species is an endangered or threatened species because of any of the following factors: (A) the present or threatened destruction, modification, or curtailment of its habitat or range; (B) overutilization for commercial, recreational, scientific, or educational purposes; (C) disease or predation; (D) the inadequacy of existing regulatory mechanisms; or (E) other natural or manmade factors affecting its continued existence (16 U.S.C. 1533(a)(1)). Section 4(b)(1)(A) of the ESA requires us to make the determination based solely on the best scientific and commercial data available at the time of the review and after taking into account efforts to protect the species (16 U.S.C. 1533(b)(1)(A)). Regulations in 50 CFR 424.21 require that we publish a notice in the Federal Register announcing species currently under active review. Based on such reviews, we determine whether a species should be delisted or reclassified (50 CFR 424.21). Any such change (i.e., delisting or reclassification) would require a separate rulemaking process.

We last performed a review of the Brazilian guitarfish in 2015. Background information on the species is available on the NMFS website at: https://www.fisheries.noaa.gov/species/brazilian-guitarfish/overview.

Public Solicitation of Relevant Information

To ensure that the 5-year review is based on the best scientific and commercial data available, we are soliciting information from the public, governmental agencies, Tribes, the scientific community, industry, environmental organizations, and any other interested parties. We request information that has become available since the previous review was published in 2015. Categories of requested information include: (1) species biology including, but not limited to, abundance, population trends, demographics, distribution, and diversity; (2) habitat conditions including, but not limited to, amount, distribution, suitability, and important features for conservation; (3) degree, nature, and trends of threats to the species and its habitats, especially those factors described in section 4(a)(1) of the ESA and listed above; (4) conservation efforts that have been implemented to benefit the species, including monitoring data demonstrating the effectiveness of such efforts; and (5) other information, data, or corrections including, but not limited to, taxonomic or nomenclatural changes and improved analytical methods for evaluating extinction risk.

If you wish to provide information for the review, please submit your information and materials electronically (see ADDRESSES section). We request that all information be accompanied by supporting documentation such as maps, bibliographic references, or reprints of pertinent publications.

Authority: 16 U.S.C. 1531 et seq.

Dated: November 22, 2024.
Lisa Manning,
Acting Chief, Endangered Species Conservation Division, Office of Protected Resources, National Marine Fisheries Service.

[FR Doc. 2024-27848 Filed 11-26-24; 8:45 am]

BILLING CODE 3510-22-P